DEPARTMENT OF DEFENSE

Office of the Secretary

[Docket ID: DoD-2022-OS-0050]

Proposed Collection; Comment Request

AGENCY: Office of the Under Secretary of Defense for Personnel and Readiness (OUSD(P&R)), Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 8, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: New Parent Support Program Evaluation; OMB Control Number 0704-NPSP.

Needs and Uses: The Military Community & Family Policy Family Advocacy Program (FAP) within the DoD's Office of the Deputy Assistant Secretary of Defense (OSD) is requesting Office of Management and Budget clearance for the New Parent Support Program (NPSP) Evaluation. OSD FAP contracted with Pennsylvania State University for this data collection to assist in understanding the benefits and limitations of using a DoD developed, standardized, evidence-informed home visitation curriculum (i.e., Take Root Home Visitation [TRHV]) within the NPSP. TRHV is a tailorable home visitation curriculum that addresses risk and protective factors for child maltreatment, which is a primary focus of NPSP home visitation. TRHV is designed to be used by home visitors to structure their time with their clients and their families. TRHV helps home visitors actively work with parents to strengthen core parenting skills, improve the parent-child bond, and promote positive child development. During visits, home visitors will use TRHV to collaborate with parents on identifying areas of strength and challenge, discuss ideas and strategies that can help parents achieve their goals, engage in role play or other skill building activities to help parents master core concepts, observe parents as they interact with their child and provide feedback, provide parents with handouts and other relevant materials, and assign skill practice homework to be completed between visits.

Affected Public: Individuals or households.

Annual Burden Hours: 210 hours.

Number of Respondents: 315.

Responses per Respondent: 1.

Annual Responses: 315.

Average Burden per Response: 40 minutes.

Frequency: On occasion.

Dated: May 3, 2022.
Aaron T. Siegel,
Alternate OSD Federal Register Liaison Officer, Department of Defense.

[FR Doc. 2022-09859 Filed 5-6-22; 8:45 am]

BILLING CODE 5001-06-P